DEPARTMENT OF ENERGY

Federal Energy Regulatory Commission

[Docket No. CP17-256-000]

Texas Gas Transmission, LLC; Notice Revising Comment Date

On May 9, 2017, the Commission issued a notice of application (May 9 Notice) in the above captioned proceeding.¹ As stated in the May 9 Notice, Texas Gas Transmission, LLC (Texas Gas), requests authorization to (i) abandon in place the Morgan City Compressor Station, which consists of one 9,100 horsepower (hp) gas-fired turbine compressor unit, a compressor building, yard and station piping, and appurtenant auxiliary facilities located in St. Mary Parish, Louisiana, (ii) abandon in place one 9,100 hp gas-fired turbine compressor unit and its compressor building at the Lafayette (also known as Youngsville) Compressor Station, located in Lafayette Parish, Louisiana, and (iii) relinquish the firm design capacity associated with the facilities.

¹ Texas Gas Transmission, LLC, 82 FR 22,539 (2017).

On May 18, 2017, Texas Gas notified the Commission that the original April 26 Application had incorrectly listed the location of the Morgan City Compressor Station. The correct location of the Morgan City Compressor Station is Assumption Parish, Louisiana. To remedy this error and in accordance with section 157.6(d) of the Commission's regulations, Texas Gas states that it will make a good faith effort to re-notify all towns, communities, and local, state, and federal governments and agencies (Stakeholders) located in St. Mary Parish, Louisiana, of this error. In addition, Texas Gas states that it has made an effort to notify all such Stakeholder entities in Assumption Parish, Louisiana of the proposed abandonment activities at the Morgan City Compressor Station. To give interested parties who were not on the original landowner list an opportunity to comment, the comment date for this application has been revised, to the date listed at the end of this notice.

This application is on file with the Commission and is open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659. Any questions regarding this application may be directed to Kathy D. Fort, Manager, Certificates & Tariffs, Gulf South Pipeline Company, LP, 9 Greenway Plaza, Suite 2800, Houston, Texas 77046, by telephone at (713) 479-8252, or by email to kathy.fort@bwpmlp.com.

Pursuant to section 157.9 of the Commission's rules, 18 CFR 157.9, within 90 days of this Notice ² the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

² The 90-day timeframe restarts from the date of this notice.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and 7 copies of the protest or intervention to the Federal Energy Regulatory Commission, 888 First Street NE., Washington, DC 20426.

Comment Date: 5:00 p.m. Eastern Time on June 9, 2017.

Dated: May 19, 2017.
Kimberly D. Bose,
Secretary.

[FR Doc. 2017-10821 Filed 5-25-17; 8:45 am]

BILLING CODE 6717-01-P